DEPARTMENT OF AGRICULTURE

Farm Service Agency

Commodity Credit Corporation

Information Collection Request; Economic Assessment of Conservation Reserve Program Lands for Hunting

AGENCY: Farm Service Agency and Commodity Credit Corporation, USDA.

ACTION: Notice; request for comments.

SUMMARY: In accordance with the Paperwork Reduction Act of 1995, the Farm Service Agency (FSA), on behalf of the Commodity Credit Corporation (CCC), is requesting comments from all interested individuals and organizations on a new information collection request associated with the “Economic Assessment of Conservation Reserve Program (CRP) Lands for Hunting.”

DATES: We will consider comments that we receive by April 2, 2013.

ADDRESSES: We invite you to submit comments on this notice. In your comments, include date, OMB control number, volume, and page number of this issue of the Federal Register. You may submit comments by any of the following methods:

• Federal eRulemaking Portal: Go to http://regulations.gov. Follow the online instructions for submitting comments.

• Mail: Skip Hyberg, Agricultural Economist, Economic and Policy Analysis Staff, Farm Service Agency, 1400 Independence Ave. SW., Room 3730, Mail Stop 0519, Washington, DC 20250.

Comments also should be sent to the Desk Officer for Agriculture, Office of Information and Regulatory Affairs, Office of Management and Budget, Washington, DC 20503. Copies of the information collection may be obtained from Dr. Skip Hyberg at the above address.

FOR FURTHER INFORMATION CONTACT: Dr. Skip Hyberg, (202) 720-9222. Persons with disabilities who require alternative means for communication (Braille, large print, audio tape, etc.) should contact the USDA Target Center at (202) 720-2600 (voice and TDD).

SUPPLEMENTARY INFORMATION: Title: Economic Assessment of Conservation Reserve Program Lands for Hunting.

OMB Control Number: 0560-NEW.

Type of Request: New.

Abstract: In accordance with the Food Security Act of 1985 (Pub. L. 99-198), as amended, FSA, on behalf of CCC, administers the CRP to conserve and improve soil, water, and wildlife resources. Federal investments in the CRP on private cropland enhance essential ecosystem resources, including wildlife, which has been documented to provide improved hunting opportunities in rural areas. As such, hunters from within the state and non-residents outside the state are drawn to CRP lands or other private lands surrounding CRP lands for hunting.

FSA considers benefits from the enhancement of wildlife habitat when selecting CRP offers. As hunting opportunities increase, so too does hunter spending, generating economic activity and employment within the outdoor recreational sector, which is of particular importance to rural communities in the region. FSA is responsible for identifying and quantifying the relationship between job creation and investments in CRP lands, as increased outdoor recreation is among the benefits FSA provides in administering the CRP.

Without data on hunter use and expenditures, the economic contribution generated by federal investments in the CRP cannot be reliably estimated. With this in mind, FSA plans to work with Colorado State University to conduct statewide mail surveys with deer, upland bird, and waterfowl hunters in North Dakota (ND) and South Dakota (SD). There have thus far been no statewide assessments of the CRP program on hunting use, expenditures, and jobs in ND or SD; the only prior studies focused on six small areas in ND and are now more than 10 years old. There have also been significant changes to the CRP since that time. In addition, there is limited generalizability of the six ND areas to the rest of ND and to SD. Therefore, FSA believes that these new statewide surveys will assist it in successfully furthering the goals of the CRP. Each of the six surveys will elicit information on hunters':

(a) Hunting activity in 2013;

(b) Use of CRP lands in terms of days spent hunting there;

(c) Expenditure pattern information; and

(d) Demographic information.

The primary objective of the surveys is to enable FSA to estimate the economic job and income contribution of current CRP lands on the rural areas within the respective states, and possible changes to jobs and income from potential changes to CRP lands emanating from either changes in the CRP program or farmers' response to non program conditions.

The research proposal has been discussed with the respective State Fish and Game agencies, and it was decided that mail surveys are the best tool to obtain the data needed to estimate CRP's contribution to rural economies. Mail surveys appear to be the best approach for an unbiased survey because the State Fish and Game agencies do not have email addresses for all hunters, and hunters in many rural locations of ND and SD do not have email access at home.

Collection of the data is necessary to evaluate and improve CRP selection criteria and program implementation, as described above. Having information on recreation-related jobs will help FSA to conduct a comparison of county level impacts of land temporarily going out of crop production via CRP. The data will be analyzed by Dr. John Loomis of Colorado State University's Department of Agricultural and Resource Economics.

Estimate of Burden: Public reporting burden for this information collection is estimated to average 15 minutes per response.

Frequency of Collection: One time only.

Respondents: Hunters with ND and SD hunting licenses.

Estimated Number of Annual Respondents: 6,000.

Estimated Number of Responses per Respondent: 1.

Estimated Total Annual Responses: 6,000.

Estimated Total Annual Burden on Respondents: 1,500 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected; and

(4) Minimize the burden of the collection of information on those who are to respond, including through the use of appropriate automated, electronic, mechanical, or other technological collection techniques or other forms of information technology.

All responses to this notice, including name and addresses when provided, will be summarized and included in the request for OMB approval. All comments will also become a matter of public record.

Signed on January 23, 2013.
Juan M. Garica,
Administrator, Farm Service Agency, and Executive Vice President, Commodity Credit Corporation.

[FR Doc. 2013-02358 Filed 1-31-13; 8:45 am]

BILLING CODE 3410-05-P